NATIONAL AERONAUTICS AND SPACE ADMINISTRATION

[Notice ( 05-155)]

Notice of Prospective Patent License

AGENCY: National Aeronautics and Space Administration.

ACTION: Notice of prospective patent license.

SUMMARY: NASA hereby gives notice that BCG Wireless of Washington, DC has applied for a partially exclusive license to practice the inventions described and claimed in U.S. Patent No. 5,983,162, entitled “Computer Implemented Empirical Mode Decomposition Method, Apparatus and Article of Manufacture,” and U.S. Patent No. 6,631,325, entitled “Computer Implemented Empirical Mode Decom-position Method Apparatus, and Article of Manufacture Utilizing Curvature Extrema,” and U.S. Patent No. 6,901,353, entitled “Computing Instantaneous Frequency by Normalizing Hilbert Transform,” which are assigned to the United States of America as represented by the Administrator of the National Aeronautics and Space Administration. Written objections to the prospective grant of a license should be sent to NASA Goddard Space Flight Center. NASA has not yet made a determination to grant the requested license and may deny the requested license even if no objections are submitted within the comment period.

DATES: Responses to this notice must be received by December 21, 2005.

FOR FURTHER INFORMATION CONTACT: Keith Dixon, NASA Goddard Space Flight Center, Code 140.1, Greenbelt, MD 20771, (301) 286-7351.

Dated: November 21, 2005.
Keith T. Sefton,
Deputy General Counsel, (Admin. and Mgmt.).

[FR Doc. E5-6900 Filed 12-5-05; 8:45 am]

BILLING CODE 7510-13-P